NUCLEAR REGULATORY COMMISSION

[Docket No. 50-285; NRC-2022-0127]

Omaha Public Power District; Fort Calhoun Station, Unit 1; Environmental Assessment and Finding of No Significant Impact

AGENCY: Nuclear Regulatory Commission.

ACTION: Notice; issuance.

SUMMARY: The U.S. Nuclear Regulatory Commission (NRC) is issuing a finding of no significant impact (FONSI) and accompanying environmental assessment (EA) regarding the NRC's consideration of a license amendment request by Omaha Public Power District (OPPD) to approve the License Termination Plan (LTP) for the Fort Calhoun Station, Unit 1 (FCS), located in Washington County, Nebraska. If approved, the amendment would add a license condition to the FCS license reflecting the NRC's approval of its LTP and establishing criteria for determining when changes to the LTP require prior NRC approval. OPPD would use the LTP to meet the requirements for terminating the license and releasing the site for unrestricted use. Based on the EA, the NRC staff has concluded that there will be no significant impacts to environmental resources from the requested license amendment, and therefore, a FONSI is appropriate.

DATES: The EA and FONSI referenced in this document is available on January 2, 2024.

ADDRESSES: Please refer to Docket ID NRC-2022-0127 when contacting the NRC about the availability of information regarding this document. You may obtain publicly available information related to this document using any of the following methods:

• Federal Rulemaking Website: Go to https://www.regulations.gov and search for Docket ID NRC-2022-0127. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section of this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Marla Morales, Office of Nuclear Material Safety and Safeguards, U.S. Nuclear Regulatory Commission, Washington, DC 20555-0001; telephone: 301-415-0715; email: Marla.Morales@nrc.gov.

SUPPLEMENTARY INFORMATION:

I. Introduction

The NRC is considering issuance of a license amendment request to approve the LTP for the FCS, located in Washington County, Nebraska, as part of OPPD's part 50 of title 10 of the Code of Federal Regulations (10 CFR), “Domestic Licensing of Production and Utilization Facilities,” Facility Operating License No. DPR-40. If granted, the license amendment would add a condition to FCS's license reflecting the NRC's approval of FCS's LTP and establishing criteria for determining when changes to the LTP require prior NRC approval. As required by 10 CFR part 51, “Environmental Protection Regulations for Domestic Licensing and Related Regulatory Functions,” the NRC prepared an environmental assessment (EA). Based on the results of the EA, the NRC has determined not to prepare an environmental impact statement (EIS) for the license amendment request and is issuing a finding of no significant impact (FONSI).

Construction of FCS began in 1968, and the NRC issued an operating license to the OPPD in 1973. The FCS began commercial operation in September 1973. The OPPD submitted the Certification of Permanent Cessation of Power Operations in August 2016 in accordance with 10 CFR 50.82 (a)(1)(i) and shutdown on October 24, 2016. Pursuant to 10 CFR 50.82(a)(1)(ii), on November 13, 2016, the OPPD certified to the NRC that as of November 2016, all fuel had been removed from the FCS reactor vessel and placed into the FCS spent fuel pool.

Pursuant to 10 CFR 50.82(a)(4)(i), the OPPD submitted its initial Post-Shutdown Decommissioning Activities Report (PSDAR) on March 30, 2017, and supplemented it by letter dated December 14, 2017. The PSDAR described OPPD's selection of the SAFSTOR method for decommissioning the FCS. The FCS reactor remained in SAFSTOR until December 16, 2019.

On December 16, 2019, as supplemented by letter dated July 16, 2020, the OPPD submitted a revised PSDAR to the NRC to reflect schedule changes and select a new method for decommissioning the FCS pursuant to 10 CFR 50.82(a)(7). The revised PSDAR described OPPD's selection of the DECON method for decommissioning the FCS.

By letter dated May 18, 2020, the OPPD certified to the NRC that as of May 13, 2020, all spent fuel assemblies had been permanently transferred out of the FCS spent fuel pool and placed in storage within the independent spent fuel storage installation (ISFSI). The OPPD submitted the LTP on August 3, 2021, in accordance with 10 CFR 50.82(a)(9).

II. Environmental Assessment

Description of the Proposed Action

The proposed action is the review and subsequent approval, if appropriate, of a license amendment to OPPD to approve the LTP for the FCS. If approved, the amendment would add a license condition to the FCS license reflecting the NRC's approval of the LTP and establishing criteria for determining when changes to the LTP require prior NRC approval.

The proposed action is described in the OPPD's 2021 LTP application and responses to requests for additional information dated June 15, 2022, and February 27, 2023.

Purpose and Need for the Proposed Action

The purpose of and need for the proposed action is to allow for completion of decommissioning of the FCS site by the OPPD, termination of the FCS operating license by the NRC, and subsequent release of the FCS site for unrestricted use. The NRC regulation at 10 CFR 50.82 sets forth the process for the licensee to decommission its nuclear power plant, including submission of the LTP. The NRC will approve the LTP, provided that the LTP meets the criteria in 10 CFR 50.82(a)(10).

Environmental Impacts of the Proposed Action

The NRC staff considered the potential impacts of the proposed action on land use, historical and cultural resources; visual and scenic resources; meteorology, climatology, and air quality; noise; geology and soils; water resources; ecological resources; socioeconomics; public and occupation health; transportation and traffic; environmental justice; and waste management. The Decommissioning Generic Environmental Impact Statement (GEIS) (NUREG-0586) generically addressed many of the potential environmental impacts of decommissioning at the FCS. During its review of the FCS LTP, the NRC concluded that the impacts for most resource areas—onsite land use; water resources; air quality; ecology, not including threatened and endangered species or outside the operational area; socioeconomics; historic and cultural resources within the operational area; aesthetics; noise; transportation; and nonradioactive waste management—were still bounded by the Decommissioning GEIS. Therefore, the NRC does not expect impacts associated with these issues beyond those discussed in the GEIS, which concluded that the impact level for these issues was SMALL.

In the Decommissioning GEIS, the NRC staff concluded that it could not necessarily determine the environmental impacts of decommissioning generically for six environmental resource areas (offsite land use, threatened and endangered species, aquatic ecology beyond the operational area, terrestrial ecology beyond the operational area, environmental justice, and historic and cultural resources beyond the operational area). The Decommissioning GEIS determined that for these six resource areas a site-specific analysis would be required as was done in the FCS EA. In addition, topics not included in the Decommissioning GEIS that the NRC staff evaluated in the FCS EA include the affected environment, climate change, cumulative impacts, contamination of groundwater from decommissioning activities, and nonradioactive waste management.

In the FCS EA, the NRC staff evaluated the potential environmental impacts on the six site-specific environmental resource areas as well as the five resource areas not evaluated in the Decommissioning GEIS and did not identify any significant impacts. For the proposed action there are no planned activities outside of the operational area, and the OPPD commits to using best management practices and obtaining all necessary licenses from Federal or State agencies to protect the surrounding lands. Therefore, the proposed action would result in no significant impacts and there would be no significant cumulative effects when added to the past, present, or reasonably foreseeable future actions at the FCS site.

Environmental Impacts of the Alternatives to the Proposed Action

As an alternative to the proposed action, the NRC staff considered the “no-action” alternative. Under the no-action alternative, the NRC would not approve the LTP or the license amendment request because regulatory requirements have not been met. If the NRC was unable to approve the LTP because the regulatory requirements were not met, the OPPD would need to take additional actions to prepare an LTP that meets the requirements in 10 CFR 50.82(a)(10). Under this scenario, until the OPPD resubmits the LTP, activities at FCS would likely continue and the environmental impacts would neither increase nor decrease as a result of the additional time required for the LTP resubmission.

Agencies and Persons Consulted

On August 18, 2023, the NRC staff provided a copy of the draft EA to the State of Nebraska Department of Health and Human Services for its review and comment. In a letter dated October 12, 2023, the State provided comments on the State's applicable regulations for air quality, stormwater, water quality, and waste management. The comments were incorporated into the EA, as applicable.

The NRC completed consultation under section 106 of the National Historic Preservation Act by consulting with the Nebraska State Historic Preservation Office and 12 Federally recognized Indian Tribes in correspondence dated August 3, 2022. In addition, the NRC staff, consulted with the U.S. Fish and Wildlife Service (FWS) and determined that the proposed action “may affect, but not likely to adversely affect” the Northern Long-eared Bat, Tricolored Bat, Piping Plover, Monarch Butterfly, and the Pallid Sturgeon, and would have “no effect” on critical habitat. The NRC staff provided its effect determinations to FWS on August 18, 2023, and FWS concurred with those findings on November 5, 2023, and provided no additional comments. Therefore, consultation has been completed under section 7 of the Endangered Species Act.

III. Finding of No Significant Impact

Based on its review of the license amendment request, in accordance with the requirements of 10 CFR part 51, the NRC staff has determined that issuing the requested amendment, if appropriate, of a license termination to OPPD's DPR-40 license would not significantly affect the quality of human environment. No significant radiological or non-radiological impacts are expected from the proposed action. Therefore, the NRC staff has determined that pursuant to 10 CFR 51.31, “Determinations based on environmental assessment,” preparation of an EIS is not required for the proposed action, and pursuant to 10 CFR 51.32, “Finding of no significant impact,” a FONSI is appropriate. In accordance with 10 CFR 51.32(a)(4), this FONSI incorporates the EA set forth in this notice by reference.

IV. Availability of Documents

The documents identified in the following table are available to interested persons through ADAMS.

Document description | ADAMS accession No.
Omaha Public Power District Post-Shutdown Decommissioning Activities Reports and supplemental letters, dated March 30, 2017, December 14, 2017, December 16, 2019, and July 16, 2020 | ML17089A759, ML17348A623, ML19351E355 and ML20202A654.
Omaha Public Power District Certification of Permanent Cessation of Power Operations, dated August 25, 2016 | ML16242A127.
Omaha Public Power District Certification of Permanent Removal of Fuel from the Reactor Vessel, dated November 13, 2016 | ML16319A254.
Omaha Public Power District Certification of Permanent Removal of all Spent Fuel Assemblies from the Spent Fuel Pool, dated May 18, 2020 | ML20139A138.
Omaha Public Power District, License Amendment Application, dated August 3, 2021 | ML21271A178 (Package).
Omaha Public Power District Response to Fort Calhoun Station, Unit No. 1 Requests for Additional Information dated June 15, 2022, and February 27, 2023 | ML22167A199 and ML23060A197.
Final Generic Environmental Impact Statement on Decommissioning of Nuclear Facilities (NUREG-0586), dated November 2002 | ML023470304.
NRC letter to the Nebraska Department of Health and Human Services Request for Review of Draft EA, dated August 18, 2023 | ML23234A239.
Nebraska Department of Health and Human Services email response to NRC Request for Review of Draft EA, dated October 12, 2023 | ML23298A097.
Letter to the Nebraska State Historic Preservation Office initiating consultation under section 106 of the National Historic Preservation Act, dated September 29, 2022 | ML22258A273.
NRC letters to Tribal nations initiating consultation under section 106 of the National Historic Preservation Act, dated August 3, 2022 | ML22137A126 (Package).
NRC letter to FWS regarding informal Section 7 consultation, determinations of effect, dated August 18, 2023 | ML23234A241.
Fish and Wildlife Service concurrence on NRC's determinations of effect, dated November 5, 2023 | ML23311A086.
Final Environmental Assessment for Fort Calhoun, Unit 1 License Termination Plan, dated December 14, 2023 | ML23333A049.

Dated: December 27, 2023.
For the Nuclear Regulatory Commission.
Jill S. Caverly,
Acting Chief, Environmental Project Management Branch 2, Division of Rulemaking, Environmental, and Financial Support, Office of Nuclear Material Safety, and Safeguards.

[FR Doc. 2023-28815 Filed 12-29-23; 8:45 am]

BILLING CODE 7590-01-P